INTERNATIONAL TRADE COMMISSION

[Investigation Nos.701-TA-451; 731-TA-1126-1127 (Final)]

In the Matter of: Lightweight Thermal Paper From China and Germany Notice of Commission Determination To Conduct a Portion of the Hearing In Camera

AGENCY: U.S. International Trade Commission.

ACTION: Closure of a portion of a Commission hearing.

SUMMARY: Upon request of Papierfabrik August Koehler AG, Koehler America, Inc., Mitsubishi HiTec Paper Flensburg GmbH, Mitsubishi HiTec Paper Bielefeld GmbH, and Mitsubishi International Corp. (“German Respondents”), the Commission has determined to conduct a portion of its hearing in the above-captioned investigations scheduled for October 2, 2008, in camera. See Commission rules 207.24(d), 201.13(m) and 201.36(b)(4) (19 CFR 207.24(d), 201.13(m) and 201.36(b)(4)). The remainder of the hearing will be open to the public. The Commission has determined that the seven-day advance notice of the change to a meeting was not possible. See Commission rule 201.35(a), (c)(1) (19 CFR 201.35(a), (c)(1)).

FOR FURTHER INFORMATION CONTACT: Marc A. Bernstein, Office of General Counsel, United States International Trade Commission, 202-205-3087. Hearing-impaired individuals are advised that information on this matter may be obtained by contacting the Commission's TDD terminal on 202-205-3105.

SUPPLEMENTARY INFORMATION: The Commission believes that German Respondents have justified the need for a closed session to discuss pricing data, trade and financial data pertaining to the domestic industry, and business plans of domestic producers that contain business proprietary information (BPI). In making this decision, the Commission nevertheless reaffirms its belief that whenever possible its business should be conducted in public.

The hearing will include the usual public presentations by parties supporting imposition of duties and respondents, with questions from the Commission. In addition, the hearing will include a ten-minute in camera session for a confidential presentation by German Respondents. This session will be followed by questions from the Commission relating to the BPI and a ten-minute in camera rebuttal presentation by parties supporting imposition of duties, if needed. Following the in camera session, the Commission will reopen the hearing to the public for the public rebuttal/closing statements. During the in camera session the room will be cleared of all persons except those who have been granted access to BPI under a Commission administrative protective order (APO) and are included on the Commission's APO service list in this investigation. See 19 CFR 201.35(b). The time for the parties' presentations and rebuttals in the in camera session will be taken from their respective overall time allotments for the hearing. All persons planning to attend the in camera portions of the hearing should be prepared to present proper identification.

Authority: The General Counsel has certified, pursuant to Commission Rule 201.39 (19 CFR 201.39) that a portion of the Commission's hearing in Lightweight Thermal Paper from China and Germany, Inv. Nos. 701-TA-451, 731-TA-1126-27 (Final), may be closed to the public to prevent the disclosure of BPI.

By order of the Commission.
Issued: September 29, 2008.
Marilyn R. Abbott,
Secretary to the Commission.

[FR Doc. E8-23323 Filed 10-2-08; 8:45 am]

BILLING CODE 7020-02-P